DEPARTMENT OF THE INTERIOR

Bureau of Land Management

[21X LLUTC01000 L51010000 ER0000 LVRWJ21J4210; UTU-92733; 00-00000]

Notice of Availability of the Pine Valley Water Supply Project Draft Environmental Impact Statement, Beaver and Iron Counties, UT

AGENCY: Bureau of Land Management, Interior.

ACTION: Notice of Availability.

SUMMARY: In compliance with the National Environmental Policy Act of 1969, as amended (NEPA), and the Federal Land Policy and Management Act of 1976, as amended (FLPMA), the Bureau of Land Management (BLM) announces the availability of the Draft Environmental Impact Statement (EIS) for a right-of-way (ROW) application submitted by the Central Iron County Water Conservancy District (CICWCD), referred to as the Pine Valley Water Supply (PVWS) Project.

DATES: This notice initiates the 45-day comment period. To ensure comments will be considered, the BLM must receive written comments on the proposed PVWS Project Draft EIS by February 22, 2022. The BLM will announce public involvement opportunities at least 15 days in advance on the BLM ePlanning project website at https://eplanning.blm.gov/eplanning-ui/project/1503915/510.

ADDRESSES: The Draft EIS is available for review on the BLM ePlanning project website at https://eplanning.blm.gov/eplanning-ui/project/1503915/510. Written comments related to the PVWS Project Draft EIS may be submitted by either of the following methods:

1. Email: pvwsproject@gmail.com.

2. Mail: Bureau of Land Management, Attn: PVWS, 176 DL Sargent Drive, Cedar City, Utah 84721.

FOR FURTHER INFORMATION CONTACT: Brooklynn Cox, Cedar City Field Office Realty Specialist, telephone (435) 865-3073; 176 DL Sargent Dr., Cedar City, UT 84721; pvwsproject@gmail.com. Persons who use a telecommunications device for the deaf may call the Federal Relay Service (FRS) at 1-800-877-8339 to leave a message or question for the above individual. The FRS is available 24 hours a day, seven days a week. Replies are provided during normal business hours. If you would like to request to view a hard copy, please call the Cedar City Field Office for more information at (435) 865-3000, Monday through Friday, except holidays.

SUPPLEMENTARY INFORMATION: On June 15, 2017, CICWCD applied for a ROW grant for the PVWS Project on BLM-administered public land in western Iron and Beaver counties, Utah. The proposed project would develop and convey groundwater rights as permitted by the Utah Division of Water Resources to the CICWCD in Pine Valley, located in Beaver County west of Milford, Utah.

The Draft EIS considers the proposed action to develop production wells within Pine Valley in Beaver County. The project also includes the development of buried lateral pipelines to connect the wells to a buried mainline, access roads, power transmission lines, a solar energy field, a 10-million-gallon underground water storage tank, and an up to 70-mile-long underground water transmission pipeline to transport water to Iron County communities. The ROW as proposed would be 50 feet wide, for a term of 30-years. During construction, there would be an additional 70-foot-wide temporary ROW; therefore, the total ROW width during that timeframe would be 120 feet.

The BLM is required to respond to CICWCD's application for a ROW under Title V of FLPMA and 43 CFR part 2800. The decision to be made by the BLM is to: Approve, approve with modifications, or deny the issuance of a ROW grant to CICWCD for the PVWS Project.

The BLM initiated scoping with the publication of a Notice of Intent in the Federal Register on July 15, 2020 (85 F R 42914), and the scoping period remained open through August 19, 2020. The bureau held an online public scoping meeting on August 5, 2020. A summary of the comments received during the scoping period can be found in the scoping report posted at https://eplanning.blm.gov/eplanning-ui/project/1503915/510.The Draft EIS considers in detail the impacts of the Proposed Action Alternative, an Adaptive Northern Well Sites (ANWS) Alternative, and a No Action Alternative. Under the No Action Alternative, the BLM would deny CICWCD's application for a ROW grant for construction and operation of the proposed project. The No Action Alternative provides a baseline against which to compare the action alternatives in the EIS.

The Proposed Action Alternative includes development of up to 15 production wells, 10 of which would be on BLM-administered public land, an estimated seven monitoring wells, up to 70 miles of buried pipeline, and other associated and appurtenant facilities. There are also eight existing monitoring wells drilled under a previous authorization that would be included in the new 30-year ROW grant. Power to the well pumps would be provided by an approximately 35-megawatt solar energy field that would be constructed in Pine Valley on approximately 200 acres located within the southern half of a 640-acre section of CICWCD-owned land. No portion of the solar energy field would be on BLM-administered land. Three sections of pipeline would be constructed for the project. Smaller lateral or collection lines would extend from each of the production wells to the main line. A main line (Pine Valley main pipeline) would convey the water from the lateral lines to a point 4.7 miles west of Lund, Utah, and a larger main line (Avon Road main pipeline) would convey the water from the point 4.7 miles west of Lund to Cedar City, Utah. The project would require an estimated total of up to 70 miles of pipeline. Of this total, up to 42.6 miles would be located on BLM-administered land. Water from the Pine Valley main pipeline would be collected into storage tanks located within a 10-acre site at the high point of the alignment. The tanks themselves would be approximately 200 feet wide by 200 feet long by 35 feet tall and contain up to 10 million gallons of water. The tanks would be located within 2.5 acres of land owned by the Utah School and Institutional Trust Lands Administration, with pipes extending across BLM-administered land to and from the main line located along Pine Valley Road. One pressure-reducing station may be required near Lund to reduce the pipeline pressure at this location. No portion of the pressure-reducing station would be on BLM-administered land. Approximately six miles of unimproved roads would be used to access the monitoring wells. Temporary construction access would be via public roads and/or contained within the temporary 120-foot-wide ROW associated with the construction. Twenty temporary staging areas are identified along the Pine Valley main pipeline and Avon Road main pipeline corridors. Construction would take up to approximately 42 months.

The BLM developed the ANWS Alternative to address some of the uncertainty surrounding potential groundwater impacts and assess whether a project alternative with a more northerly wellfield configuration would reduce potential impacts to aquifers south of Pine Valley. The ANWS Alternative is an adaptive management approach. Up to six production wells and an estimated seven monitoring wells would be completed as described in the Proposed Action Alternative. After monitoring, if drawdown in the southern aquifers becomes a concern, up to nine additional production wells (for a total of up to 15), and associated pipelines, would be installed farther north in Pine Valley, along the Pine Valley Road. The number and location of new production wells would be based on the level of impacts to the southern aquifer, as shown through monitoring. In addition to the potential impacts from the Proposed Action Alternative, up to 7.3 additional miles of pipeline and up to 7.4 additional miles of power transmission line may be required. This would bring the total pipeline miles required under the ANWS Alternative to up to 77.3.

An adaptive management monitoring and mitigation plan is included as a component of project implementation under both action alternatives, which requires monitoring to identify how the aquifer is responding and provides mitigation measures that could be implemented to minimize impacts from the changes in groundwater level. The BLM has not identified a preferred alternative in the Draft EIS. A preferred alternative will be identified in the Final EIS after consideration of comments received from the public.

The BLM will continue to provide and coordinate public participation opportunities to assist the agencies in satisfying the public involvement requirements under section 106 of the National Historic Preservation Act (NHPA) (16 U.S.C. 470f) pursuant to 36 CFR 800.2(d)(3). Information about historic and cultural resources within the area potentially affected by the Proposed Action Alternative will assist the BLM in identifying and evaluating impacts to such resources in the context of both NEPA and Section 106 of the NHPA.

The BLM will continue to consult with American Indian Tribes on a government-to-government basis in accordance with Executive Order 13175 and other policies. Tribal concerns, including impacts on Indian trust assets and potential impacts to cultural resources, will be given due consideration. Federal, State, and local agencies, along with Tribes and other stakeholders that may be interested in or affected by the proposed PVWS Project, are encouraged to review and comment on the Draft EIS. The BLM will respond to substantive comments by making appropriate revisions to the documents or explaining why a comment did not warrant a change.

Before including your phone number, email address, or other personal identifying information in your comment, you should be aware that your entire comment—including your personal identifying information—may be made publicly available at any time. While you can ask the BLM in your comment to withhold your personal identifying information from public review, the BLM cannot guarantee that it will be able to do so.

Authority: 43 CFR 2800, 40 CFR 1502.9, 40 CFR 1506.6, 43 CFR 46.435, and 43 CFR 1610.2.

Gregory Sheehan,
State Director, Bureau of Land Management, Utah.

[FR Doc. 2021-27518 Filed 1-6-22; 8:45 am]

BILLING CODE 4310-DQ-P